DEPARTMENT OF TRANSPORTATION

Federal Railroad Administration

[Docket Number FRA-2008-0010]

Petition for Waiver of Compliance

In accordance with Part 211 of Title 49 Code of Federal Regulations (CFR), this document provides the public notice that by a document dated November 10, 2014, Sonoma-Marin Area Rail Transit District (SMART), owner of 77 miles of former Northwestern Pacific Railroad Company, and Southern Pacific Transportation Company trackage in Marin, Sonoma, and Napa Counties, CA, has petitioned the Federal Railroad Administration (FRA) for reconsideration of an approval condition, granted on February 24, 2009, on the Brazos Drawbridge at Milepost 64.7, specifically, condition 4 of FRA-2008-0010, which states “Approval is for freight movements only and shall be revisited prior to any passenger operations.”

SMART, Amtrak, and the Capitol Corridor Joint Powers Authority are formally asking for an exception to the condition cited above to permit operation of two round-trip chartered Amtrak passenger trains, over the Brazos Drawbridge, to Sonoma Raceway on Sunday, June 28, 2015, for NASCAR Specials, on Sunday, August 2, 2015, for NHRA Specials, and on Sunday, August 30, 2015, for Indy Car Specials.

FRA has previously granted an exception to this condition to allow a chartered Amtrak special train on June 23, 2013, which was a 1-day passenger train movement over the Brazos Drawbridge operating between Sacramento and Sonoma Raceway. That special was considered a great success. FRA also granted an exception to the condition for the operation of two special trains on June 22, 2014, as well as two special trains on August 24, 2014.

The intended operating route of these 2015 specials is from Sacramento and San Jose on the Union Pacific Railroad to Suisun-Fairfield, then via the California Northern Railroad from Suisun-Fairfield to Brazos Junction, and over SMART trackage from Brazos Junction over the Brazos Drawbridge to Sonoma Raceway and return via the same route.

As was the case in 2013, and 2014, a specific operating plan will be in place to ensure correct operation of the Brazos Drawbridge, the safety of train operations, equipment, passenger boarding/alighting, staffing, and raceway access/egress.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 4, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on March 13, 2015.
Ron Hynes,
Director of Technical Oversight.

[FR Doc. 2015-06254 Filed 3-18-15; 8:45 am]

BILLING CODE 4910-06-P